Title 3—

The President

Proclamation 10988 of November 7, 2025

Anti-Communism Week, 2025

By the President of the United States of America

A Proclamation

This week, our Nation observes Anti-Communism Week, a solemn remembrance of the devastation caused by one of history's most destructive ideologies. Across continents and generations, communism has wrought devastation upon nations and souls. More than 100 million lives have been taken by regimes that sought to erase faith, suppress freedom, and destroy prosperity earned through hard work, violating the God-given rights and dignity of those they oppressed. As we honor their memory, we renew our national promise to stand firm against communism, to uphold the cause of liberty and human worth, and to affirm once more that no system of government can ever replace the will and conscience of a free people.

For more than a century, communism has brought nothing but ruin. Wherever it spreads, it silences dissent, punishes beliefs, and demands that generations kneel before the power of the state instead of standing for freedom. Its story is written in blood and sorrow, a grim reminder that communism is nothing more than another word for servitude.

In the 34 years since the end of the Cold War, the world has witnessed both the triumph of democracy and the persistence of tyranny in new forms. New voices now repeat old lies, cloaking them in the language of “social justice” and “democratic socialism,” yet their message remains the same: give up your freedom, place your trust in the power of the government, and trade the promise of prosperity for the empty comfort of control. America rejects this evil doctrine. We remain a Nation founded on the eternal truth that liberty and opportunity are the birthrights of every person, and that no ideology, whether foreign or domestic, can extinguish them.

As we mark Anti-Communism Week, we stand united in defense of the values that define us as a free people. We honor the victims of oppression by keeping their cause alive and by ensuring that communism and every system that denies the rights to life, liberty, and the pursuit of happiness will find their place, once and for all, on the ash heap of history.

NOW, THEREFORE, I, DONALD J. TRUMP, President of the United States of America, by virtue of the authority vested in me by the Constitution and the laws of the United States, do hereby proclaim the week of November 2 through November 8, 2025, as Anti-Communism Week.

IN WITNESS WHEREOF, I have hereunto set my hand this seventh day of November, in the year of our Lord two thousand twenty-five, and of the Independence of the United States of America the two hundred and fiftieth.

[FR Doc. 2025-19892

Filed 11-12-25; 2:00 pm]

Billing code 3395-F4-P